DEPARTMENT OF HEALTH AND HUMAN SERVICES

Centers for Medicare & Medicaid Services

[Document Identifier: CMS-10790]

Agency Information Collection Activities: Proposed Collection; Comment Request; Correction

AGENCY: Centers for Medicare & Medicaid Services (CMS), HHS.

ACTION: Correction of notice.

SUMMARY: This document corrects the information provided for [Document Identifier: CMS-10790] titled “Medicare-Funded GME Residency Positions in accordance with Section 126 of the Consolidated Appropriations Act, 2020.”

FOR FURTHER INFORMATION CONTACT: William N. Parham, III, (410) 786-4669.

SUPPLEMENTARY INFORMATION:

I. Background

In the October 22, 2021, issue of the Federal Register (86 FR 58664), we published a Paperwork Reduction Act notice requesting a 60-day public comment period for the information collection request identified under CMS-10790, OMB control number 0938-New, and titled “Medicare-Funded GME Residency Positions in accordance with Section 126 of the Consolidated Appropriations Act, 2020 (Pub. L. 116-93).”

II. Explanation of Error

In the October 22, 2021, notice, the information provided in the middle of the middle column on page 58665, was published with incorrect information in the “Use” section. This notice corrects the language found in the “Use” section in the middle of the middle column on page 58665. All of the other information contained in the October 22, 2021, notice is correct. The related public comment period remains in effect and ends December 21, 2021.

III. Correction of Error

In FR Doc. 2021-23107 of October 22, 2021, (86 FR 58664), page 58665, the language in the middle of the middle column that begins with “Use:” and ends with “in early January 2022” is corrected to read as follows:

Use: The requirements in this rule were announced in CMS- 1752-P (FY22 IPPS); however, the PRA package has been under development until now. The plan, approved by OMB and CM, is to have the 60-day Federal Register notice publish and then have CMS-1752-F3 serve as the required 30-day Federal Register notice, with the goal of approval in early January 2022. If this is not possible, CMS will publish a standalone 30-day Federal Register notice prior to submitting the information collection request (CMS-10790) to OMB.

Dated: November 3, 2021.
William N. Parham, III,
Director, Paperwork Reduction Staff, Office of Strategic Operations and Regulatory Affairs.

[FR Doc. 2021-24418 Filed 11-8-21; 8:45 am]

BILLING CODE 4120-01-P